DEPARTMENT OF HEALTH AND HUMAN SERVICES

DEPARTMENT OF AGRICULTURE

Announcement of Final Meeting of 2005 Dietary Guidelines Advisory Committee and Solicitation of Written Comments

AGENCIES: U.S. Department of Health and Human Services (HHS), Office of Public Health and Science; and U.S. Department of Agriculture (USDA), Food, Nutrition and Consumer Services and Research, Education and Economics.

ACTION: Notice.

SUMMARY: The U.S. Department of Health and Human Services and the U.S. Department of Agriculture (a) provide notice of the final meeting of the Committee and (b) solicit written comments.

DATES: (1) The Committee will meet on May 26 and 27, 2004, 8:30 a.m. to 5:30 p.m. on both days. (2) Written comments on the Dietary Guidelines must be received by 5 p.m. e.d.t. on May 12, 2004, to ensure transmittal to and consideration by the Committee prior to this meeting.

ADDRESSES: The meeting will be held at the Holiday Inn Georgetown, located at 2101 Wisconsin Ave., NW., Washington, DC., in the Mirage Ballroom. The closest metro station to the meeting location is the Foggy Bottom station. Holiday Inn Georgetown shuttle service will be provided between the Foggy Bottom metro station and the hotel. Limited parking is available at the hotel; paid parking is also available.

FOR FURTHER INFORMATION CONTACT: HHS Co-Executive Secretaries: Kathryn McMurry or Karyl Thomas Rattay (phone 202-690-7102), HHS Office of Disease Prevention and Health Promotion, Office of Public Health and Science, Room 738-G, 200 Independence Ave., SW., Washington, DC 20201. USDA Co-Executive Secretaries: Carole Davis (phone 703-305-7600), USDA Center for Nutrition Policy and Promotion, 3101 Park Center Drive, Room 1034, Alexandria, Virginia 22302, or Pamela Pehrsson (phone 301-504-0716), USDA Agricultural Research Service, Beltsville Agricultural Research Center-West, Building 005, Room 309A, Beltsville, Maryland 20705. Additional information is available on the Internet at www.health.gov/dietaryguidelines.

SUPPLEMENTARY INFORMATION: Dietary Guidelines Advisory Committee: The thirteen-member Committee appointed by the two Departments is chaired by Janet King, Ph.D., R.D., Children's Hospital Oakland Research Institute, Oakland, California. Other members are Lawrence J. Appel, M.D., M.P.H., Johns Hopkins Medical Institutions, Baltimore, Maryland; Yvonne L. Bronner, Sc.D., R.D., L.D., Morgan State University, Baltimore, Maryland; Benjamin Caballero, M.D., Ph.D., Johns Hopkins University Bloomberg School of Public Health, Baltimore, Maryland; Carlos A. Camargo, M.D., Dr.P.H., Harvard University, Boston, Massachusetts; Fergus M. Clydesdale, Ph.D., University of Massachusetts, Amherst, Amherst, Massachusetts; Vay Liang W. Go, M.D., University of California at Los Angeles, Los Angeles, California; Penny M. Kris-Etherton, Ph.D., R.D., Pennsylvania State University, University Park, Pennsylvania; Joanne R. Lupton, Ph.D., Texas A&M University, College Station, Texas; Theresa A. Nicklas, Dr.P.H., M.P.H., L.N., Baylor College of Medicine, Houston, Texas; Russell R. Pate, Ph.D., University of South Carolina, Columbia, South Carolina; F. Xavier Pi-Sunyer, M.D., M.P.H., Columbia University College of Physicians and Surgeons, New York, New York; and Connie M. Weaver, Ph.D., Purdue University, West Lafayette, Indiana.

Purpose of Meeting: The appointment of the Committee reflects the commitment by HHS and USDA to provide sound and current dietary guidance to consumers. The National Nutrition Monitoring and Related Research Act of 1990 (Pub. L. 101-445, Title III) requires the Secretaries of HHS and USDA to publish the Dietary Guidelines for Americans at least every five years. During its first meeting, the Dietary Guidelines Advisory Committee decided the science has changed since the 2000 edition of Nutrition and Your Health: Dietary Guidelines for Americans and further evaluation of the science was necessary. Therefore, it has conducted a review of current scientific and medical knowledge and will provide a technical report of any recommendations to the Secretaries for the 2005 edition. The agenda will include review and discussion of the Committee's draft report.

Public Participation at Meeting: The meeting is open to the public. Because space is limited, pre-registration is requested. To pre-register, please e-mail dietaryguidelines@osophs.dhhs.gov, with “Meeting Registration” in the subject line or call Marianne Augustine at (202) 260-2322 by 5 p.m. e.d.t., May 21, 2004. Registration must include your name, affiliation, phone number, and days attending. Visitors must bring proper identification to attend the meeting. If you require a sign language interpreter, please call Marianne Augustine at (202) 260-2322 by May 12, 2004. Documents pertaining to Committee deliberations for the final meeting, including the draft report, will be available for public inspection and copying in Room 738-G, 200 Independence Avenue, S.W., Washington, D.C., beginning the day before the meeting. All official documents are available for viewing by appointment for the duration of the Committee's term, which terminates after delivery of its final report to the Secretaries. Please call (202) 690-7102 to schedule an appointment to view the documents.

Written Comments: By this notice, the Committee is soliciting submission of written comments, views, information and data pertinent to review of the Dietary Guidelines for Americans. For those submitting comments more than 5 pages in length, please provide a 1-page summary of key points related to the comments submitted for the Dietary Guidelines Advisory Committee. For comments with multiple attachments, please provide seventeen copies for distribution to committee members and staff, if feasible. To ensure transmittal to and consideration by the Committee prior to the final meeting, comments must be submitted by 5 p.m. e.d.t., May 12, 2004. Comments should be sent to dietaryguidelines@osophs.dhhs.gov or to Kathryn McMurry, HHS Office of Disease Prevention and Health Promotion, Office of Public Health and Science, Room 738-G, 200 Independence Avenue, SW., Washington, DC 20201, (202) 690-7102.

Dated: April 21, 2004.
Capt Penelope S. Royall,
Deputy Assistant Secretary for Health (Disease Prevention and Health Promotion), U.S. Department of Health and Human Services.

Dated: April 21, 2004.
Eric J. Hentges,
Executive Director, Center for Nutrition Policy and Promotion, U.S. Department of Agriculture.

Dated: April 16, 2004.
Caird E. Rexroad,
Acting Associate Administrator, Agricultural Research Service, U.S. Department of Agriculture.

[FR Doc. 04-9385 Filed 4-23-04; 8:45 am]

BILLING CODE 4150-32-P